NATIONAL TRANSPORTATION SAFETY BOARD

Sunshine Act Meetings

TIME AND DATE: 9:30 a.m. EDT, Tuesday, June 25, 2024.

PLACE: East Palestine High School, 360 W Grant Street, East Palestine, OH 44413.

STATUS: The one item is open to the public.

MATTERS TO BE CONSIDERED:

72568 Railroad Investigative Report—Norfolk Southern Railway Derailment and Hazardous Material Release, East Palestine, Ohio, February 3, 2023

CONTACT PERSON FOR MORE INFORMATION: Candi Bing at (202) 590-8384 or by email at bingc@ntsb.gov.

Media Information Contact: Keith Holloway by email at keith.holloway@ntsb.gov (202) 314-6100.

The public may view it through a live or archived webcast by accessing a link under “Upcoming Events” on the NTSB home page at www.ntsb.gov.

Schedule updates, including weather-related cancellations, are also available at www.ntsb.gov.

The National Transportation Safety Board is holding this meeting under the Government in the Sunshine Act, 5 U.S.C. 552(b).

Dated: May 31, 2024.
Candi R. Bing,
Federal Register Liaison Officer.

[FR Doc. 2024-12371 Filed 6-3-24; 11:15 am]

BILLING CODE 7533-01-P